DEPARTMENT OF THE INTERIOR

National Park Service

National Register of Historic Places; Notification of Pending Nominations

Nominations for the following properties being considered for listing in the National Register were received by the National Park Service before September 25, 2004. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by October 27, 2004.

Patrick W. Andrus,
Acting, Keeper of the National Register of Historic Places.

GEORGIA

Harris County

Thornton Plantation, 702 Piedmont Lake Rd. and 404 Hopkins Farm Rd., Pine Mountain, 04001212

Liberty County

Bowens, Eddie, Farm, 660 Trade Hill Rd., Seabrook, 04001209

MASSACHUSETTS

Middlesex County

Boutell—Hathorn House, 280 Wobun St., Wilmington, 04001210

NEW JERSEY

Bergen County

Iviswold,

223 Montross Ave., Rutherford, 04001213

OHIO

Summit County

Cofta, Albert, Farmstead, (Agricultural Resources of the Cuyahoga Valley MPS) 2966 Brush Rd., Richfield, 04001214

VERMONT

Chittenden County

Downtown Essex Junction Commercial Historic District, 3-17 and 8-12 Main St., 2-28 Railroad Ave., and 2 Railroad St., Essex Junction, 04001216

Windsor County

Fletcher—Fullerton Farm, (Agricultural Resources of Vermont MPS) 3615 Fletcher Hill Rd. Extension, Woodstock, 04001215

A request for REMOVAL has been received for the following resource:

MINNESOTA

Wright County

Simpson Methodist Episcopal Church (Wright County MRA) 4th and Linn Sts. Monticello, 79001276

[FR Doc. 04-22771 Filed 10-8-04; 8:45 am]

BILLING CODE 4312-51-P